FARM CREDIT ADMINISTRATION

Farm Credit Administration Board; Regular Meeting

AGENCY: Farm Credit Administration.

SUMMARY: Notice is hereby given, pursuant to the Government in the Sunshine Act (5 U.S.C. 552b(e)(3)), of the forthcoming regular meeting of the Farm Credit Administration Board (Board).

Date and Time: The regular meeting of the Board will be held at the offices of the Farm Credit Administration in McLean, Virginia, on September 12, 2002, from 9 a.m. until such time as the Board concludes its business.

FOR FURTHER INFORMATION CONTACT: Jeanette C. Brinkley, Acting Secretary to the Farm Credit Administration Board, (703) 883-4009, TTY (703) 883-4056.

ADDRESS: Farm Credit Administration, 1501 Farm Credit Drive, McLean, Virginia 22102-5090.

SUPPLEMENTARY INFORMATION: Parts of this meeting of the Board will be open to the public (limited space available), and parts of this meeting will be closed. In order to increase the accessibility to Board meetings, persons requiring assistance should make arrangements in advance. The matters to be considered at the meeting are:

Open Session

A. Approval of Minutes

• August 1, 2002 (Open)

• August 20, 2002 (Closed)

B. Reports

• FCS Building Association's Quarterly Report

• Corporate Approvals

• 2002 Farm Bill—Implications for the Farm Credit System

• Conditions and Trends in the Denver Field Office Portfolio

C. New Business

• Equal Employment Opportunity Programs and Diversity—Revision to Policy Statement 62

• Approval of the October 2002 Unified Agenda/Regulatory Performance Plan for FY 2003

• Capital Adequacy Technical Amendments—Draft Proposed Rule

• Young, Beginning and Small Farmers—Advance Notice of Proposed Rulemaking

Closed*

* Session Closed-Exempt pursuant to 5 U.S.C. 552b(c)(8), (9) and (10).

• Regulatory Enforcement Issue

• OSMO Report

Dated: September 9, 2002.
Jeanette C. Brinkley,
Acting Secretary, Farm Credit Administration Board.

[FR Doc. 02-23195 Filed 9-9-02; 11:42 am]

BILLING CODE 6705-01-P